DEPARTMENT OF TRANSPORTATION

Coast Guard

[USCG-2001-9989]

The Coast Guard's Policy of Consultation and Coordination With Indian Tribal Governments Under Executive Order 13175

AGENCY: Coast Guard, DOT.

ACTION: Notice; request for comments.

SUMMARY: The Coast Guard is requesting general information that will better allow us to implement Executive Order 13175, Consultation and Coordination with Indian Tribal Governments. This Executive Order directs Federal agencies to consult with Indian and Alaska Native tribal governments in the development of regulations that have a substantial direct effect on one or more Indian or Alaska Native tribes, on the relationship between the Federal Government and those tribes, or on the distribution of power and responsibilities between the Federal Government and those tribes. The Coast Guard has queried its internal database and determined its regulations may impact a total of 13 tribal governments. These tribal governments own fishing vessels and passenger vessels. We suspect that there may be more tribal governments impacted by Coast Guard regulations than our database revealed. In order to better carry out our responsibilities under this Executive Order, we need your help in identifying tribes that may be affected by Coast Guard rulemakings, the officials of those tribes, and the procedures needed to ensure meaningful and timely input by tribal officials. Depending on the information received, we may modify our approach and/or policy used to carry out the intent of the Executive Order when we promulgate future rulemakings.

DATES: Comments and related material must reach the Docket Management Facility on or before October 9, 2001.

ADDRESSES: To make sure your comments and related material are not entered in the docket more than once, please submit them by only one of the following means:

(1) By mail to the Docket Management Facility, (USCG-2001-9989) U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) By electronic means through the Web Site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this notice, call Karen Adams, Regulatory Coordinator, Office of Standards Development (G-MSR), Coast Guard, telephone 202-267-6819. For questions on viewing or submitting material to the docket, call Dorothy Beard, Chief, Dockets, Department of Transportation, telephone 202-366-5149.

SUPPLEMENTARY INFORMATION:

Discussion

Executive Order 13175, Consultation and Coordination with Indian Tribal Governments, is intended (1) To establish regular and meaningful consultation and collaboration with tribal officials in the development of Federal regulations that have tribal implications, (2) to strengthen the United States government-to-government relationships with Indian and Alaska Native tribes, and (3) to reduce the imposition of unfunded mandates upon those tribes. A regulation has “tribal implications” if it has a substantial direct effect on one or more Indian or Alaska Native tribes, on the relationship between the Federal Government and those tribes, or on the distribution of power and responsibilities between the Federal Government and those tribes. In order to better carry out our responsibilities under this Executive Order, we need your help in identifying tribes that may be affected by Coast Guard rulemakings, the officials of those tribes, and the procedures needed to ensure meaningful and timely input by tribal officials. We invite comments on how Coast Guard rulemakings may impact tribes and tribal governments, even if those impacts may not constitute “tribal implications” under the Executive Order. For example, there may be tribal governments in Alaska that own petroleum facilities, which are impacted by Coast Guard regulations. Also, there may be more than the currently identified 13 tribal governments that own fishing vessels and passenger vessels. A copy of Executive Order 13175 is available in the docket on the Internet at http://dms.dot.gov.

Request for Comments

Please explain your views clearly and provide copies of any information used to support your views. If you submit comments and related material, please include your name and address, identify the docket number for this notice (USCG-2001-9989), and give the reason for each comment. You may submit your comments and material by mail, hand delivery, fax, or electronic means to the Docket Management Facility as indicated under ADDRESSES. Please submit your comments and material by only one means. If you submit them by mail or hand delivery, submit them in an unbound format, no larger than 8½ by 11 inches, suitable for copying and electronic filing. If you submit them by mail and would like to know that they reached the Facility, please enclose a stamped, self-addressed postcard or envelope. We will consider all comments received during the comment period.

Dated: July 5, 2001.
Joseph J. Angelo,
Director of Standards, Marine Safety and Environmental Protection.

[FR Doc. 01-17403 Filed 7-10-01; 8:45 am]

BILLING CODE 4910-15-U